DEPARTMENT OF TRANSPORTATION

Federal Aviation Administration

[Docket No. FAA-2020-0385]

Agency Information Collection Activities: Requests for Comments; Clearance of Renewed Approval of Information Collection: Competition Plans, Passenger Facility Charges

AGENCY: Federal Aviation Administration (FAA), DOT.

ACTION: Notice and request for comments.

SUMMARY: In accordance with the Paperwork Reduction Act of 1995, FAA invites public comments about our intention to request Office of Management and Budget (OMB) approval to renew an information collection. The Federal Register Notice with a 60-day comment period soliciting comments on the following collection of information was published on April 21, 2020.

DATES: Written comments should be submitted by December 30, 2020.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Amanda Shotto by email at: amanda.j.shotto@faa.gov; phone: 202-267-8744

SUPPLEMENTARY INFORMATION: The Federal Aviation Administration (FAA), in accordance with the Paperwork Reduction Act of 1995 (PRA) (44 U.S.C. 3506(c)(2)(A)), provides the general public and Federal agencies with an opportunity to comment on proposed, revised, and continuing collections of information. This helps the FAA assess the impact of its information collection requirements and minimize the public's reporting burden.

The FAA invites comment on any aspect of this information collection, including (a) whether the proposed collection of information is necessary for FAA's performance; (b) the accuracy of the estimated burden; (c) ways for FAA to enhance the quality, utility and clarity of the information collection; and (d) ways that the burden could be minimized without reducing the quality of the collected information.

OMB Control Number: 2120-0661.

Title: Competition Plans, Passenger Facility Charges.

Form Numbers: There are no FAA forms associated with this collection.

Type of Review: Renewal of an Information Collection.

Background: The Federal Register Notice with a 60-day comment period soliciting comments on the following collection of information was published on April 21, 2020 (85 FR 22244). The DOT/FAA will use any information submitted in response to this requirement to carry out the intent of Title 49, Sections 40117(k) and 47106(f). These rules assure that a covered airport has, and implements, a plan that provides opportunities for competitive access by new entrant air carriers or air carriers seeking to expand. The affected public includes public agencies controlling medium or large hub airports.

Respondents: 5 affected airports annually.

Frequency: On occasion.

Estimated Average Burden per Response: Approximately 150 hours.

Estimated Total Annual Burden: Approximately 750 hours annually.

Issued in Washington, DC, on November 23, 2020.
David F. Cushing,
Manager, Airports Financial Assistance Division, APP-500.

[FR Doc. 2020-26263 Filed 11-27-20; 8:45 am]

BILLING CODE 4910-13-P